DEPARTMENT OF JUSTICE

Antitrust Division

Notice Pursuant to the National Cooperative Research and Production Act of 1993—Cemented Carbide Producers Association

Notice is hereby given that, on September 17, 2004, pursuant to section 6(a) of the National Cooperative Research and Production Act of 1993, 15 U.S.C. 4301 et seq. (“the Act”), Cemented Carbide Producers Association (“CCPA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Cemented Carbide Producers Association, Cleveland, OH. The nature and scope of CCPA's standards development activities are: the standardization of blanks and inserts composed of carbide, ceramic and compacted diamond/CBN; the standardization of the tools and holders for these blanks and inserts as used for turning (both internal and external) including nomenclature, classification, size, tolerances and identification; and the establishment of standard test methods for physical and chemical properties of cemented carbides, ceramics and compacted diamond/CBN.

Dorothy B. Fountain,
Deputy Director of Operations, Antitrust Division.

[FR Doc. 04-26202 Filed 11-26-04; 8:45 am]

BILLING CODE 4410-11-M